DEPARTMENT OF TRANSPORTATION

Surface Transportation Board

[Docket No. FD 35431]

Patriot Woods Railroad, LLC—Acquisition and Operation Exemption—Weyerhaeuser NR Company, Weyerhaeuser Woods Railroad Operating Division

Patriot Woods Railroad, LLC (PAW), a noncarrier, has filed a verified notice of exemption under 49 CFR 1150.31 to acquire from Weyerhaeuser NR Company, Weyerhaeuser Woods Railroad Operating Division (Woods RR), and to operate approximately 21.5 miles of rail line ¹ between milepost 8.5 (the connection with the Columbia & Cowlitz Railway Company ² at Ostrander Junction) and milepost 30.0 (Green Mountain), including auxiliary and temporary storage tracks, in Cowlitz County, Wash.

¹ PAW states that Woods RR has been used as a spur line only to serve the facilities of Weyerhaeuser NR Company, not as a common carrier railroad. PAW will hold itself out to perform common carrier service for any shipper and intends to operate the line for the purpose of becoming a rail carrier.

² After these transactions are consummated, PAW will connect with Columbia & Cowlitz Railway Company, LLC.

This transaction is related to a transaction in which Patriot Rail, LLC and its subsidiaries entered into an asset purchase agreement on July 21, 2010, to acquire from Weyerhaeuser NR Company certain rail assets and the rail assets of five of its subsidiaries.

This transaction is also related to six other transactions for which notices of exemption have been concurrently filed: Docket No. FD 35425, Tennessee Southern Railroad Company, Patriot Rail, LLC, Patriot Rail Holdings LLC, and Patriot Rail Corp.—Continuance in Control Exemption—Columbia & Cowlitz Railway, LLC, DeQueen and Eastern Railroad, LLC, Golden Triangle Railroad, LLC, Mississippi & Skuna Valley Railroad, LLC, Patriot Woods Railroad, LLC, and Texas, Oklahoma and Eastern Railroad, LLC, in which Patriot Rail, LLC and its subsidiaries seek to continue in control of PAW in this proceeding and five other newly created noncarrier subsidiaries, upon the latter becoming Class III rail carriers in the following proceedings: (1) Docket No. FD 35426, Columbia & Cowlitz Railway, LLC—Acquisition and Operation Exemption—Columbia & Cowlitz Railway Company; (2) Docket No. FD 35427, DeQueen and Eastern Railroad, LLC—Acquisition and Operation Exemption—DeQueen and Eastern Railroad Company; (3) Docket No. FD 35428, Golden Triangle Railroad, LLC—Acquisition and Operation Exemption—Golden Triangle Railroad Company; (4) Docket No. FD 35429, Mississippi & Skuna Valley Railroad, LLC—Acquisition and Operation Exemption—Mississippi & Skuna Valley Railroad Company; and (5) Docket No. FD 35430, Texas, Oklahoma & Eastern Railroad, LLC—Acquisition and Operation Exemption—Texas, Oklahoma & Eastern Railroad Company.

The parties intend to consummate the transaction on or after December 21, 2010.

PAW certifies that its projected annual revenues as a result of the transaction will not exceed those that would make it a Class III rail carrier and will not exceed $5 million.

If the verified notice contains false or misleading information, the exemption is void ab initio. Petitions to revoke the exemption under 49 U.S.C. 10502(d) may be filed at any time. The filing of a petition to revoke will not automatically stay the effectiveness of the exemption. Petitions for stay must be filed no later than November 12, 2010 (at least 7 days before the exemption becomes effective).

An original and 10 copies of all pleadings, referring to Docket No. FD 35431, must be filed with the Surface Transportation Board, 395 E Street, SW., Washington, DC 20423-0001. In addition, a copy of each pleading must be served on Louis E. Gitomer, 600 Baltimore Avenue, Suite 301, Towson, MD 21204.

Board decisions and notices are available on our Web site at http://www.stb.dot.gov.

Decided: November 1, 2010.
By the Board, Rachel D. Campbell, Director, Office of Proceedings.
Jeffrey Herzig,
Clearance Clerk.

[FR Doc. 2010-27992 Filed 11-4-10; 8:45 am]

BILLING CODE 4915-01-P